DEPARTMENT OF TRANSPORTATION

Federal Aviation Administration

14 CFR Part 39

[Docket No. FAA-2004-19202; Directorate Identifier 2004-NM-95-AD]

RIN 2120-AA64

Airworthiness Directives; Boeing Model 757 Series Airplanes

AGENCY: Federal Aviation Administration (FAA), DOT.

ACTION: Notice of proposed rulemaking (NPRM).

SUMMARY: The FAA proposes to adopt a new airworthiness directive (AD) for certain Boeing Model 757 series airplanes. This proposed AD would require identification of the part number for the cable assembly for the lower anti-collision light, and related investigative/corrective actions if necessary. This proposed AD is prompted by a report of damage caused by an electrical arc in a connector on the cable assembly for the lower anti-collision light. We are proposing this AD to prevent an electrical arc in the cable assembly for the lower anti-collision light, which could result in a fire in a flammable leakage zone of the airplane.

DATES: We must receive comments on this proposed AD by November 15, 2004.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC.

FOR FURTHER INFORMATION CONTACT: Technical information: Marcia Smith, Aerospace Engineer, Cabin Safety and Environmental Systems Branch, ANM-150S, FAA, Seattle Aircraft Certification Office, 1601 Lind Avenue, SW., Renton, Washington 98055-4056; telephone (425) 917-6484; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19202; Directorate Identifier 2004-NM-95-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

Discussion

We have received a report of damage caused by an electrical arc in a connector on the cable assembly for the lower anti-collision light. The connector was installed on a Boeing Model 757 series airplane. Investigation revealed that the electrical arc was caused by fluids that collected in the open back-shell of the connector. The fluids conducted electricity between the pins in the connector, which caused the electrical arc. The cable assembly is located in a flammable leakage zone, in the main wheel well, under the center fuel tank. An electrical arc in a flammable leakage zone may cause a fire. An electrical arc in the cable assembly for the lower anti-collision light could result in a fire in a flammable leakage zone of the airplane.

Relevant Service Information

We have reviewed Boeing Alert Service Bulletins 757-33A0048 (for Model 757-200, -200CB, and -200PF series airplanes) and 757-33A0049 (for Model 757-300 series airplanes), both dated March 28, 2002. The alert service bulletins describe procedures for the related investigative/corrective actions if certain part numbers (P/Ns) for the cable assembly for the lower anti-collision light are installed. The corrective actions include replacing the cable assembly with a new, improved cable assembly; or modifying the existing cable assembly. The related investigative actions include testing the anti-collision light after replacing or modifying the cable assembly. Accomplishing the actions specified in the service information is intended to adequately address the unsafe condition.

Both of the alert service bulletins refer to Grimes Service Bulletin 60-3414-33-SB02, dated December 1, 2001, as an additional source of service information for modifying the cable assembly.

FAA's Determination and Requirements of the Proposed AD

We have evaluated all pertinent information and identified an unsafe condition that is likely to exist or develop on other airplanes of this same type design. Therefore, we are proposing this AD, which would require identification of the P/N for the cable assembly for the lower anti-collision light, and related investigative/corrective actions if necessary. The proposed AD would require you to use the service information described previously to perform these actions, except as discussed under “Differences Between the Proposed AD and the Service Information.”

Differences Between the Proposed AD and the Service Information

The alert service bulletins do not include an inspection or review of airplane maintenance records to identify the P/N of the cable assembly for the lower anti-collision light. This proposed AD would require these actions. This requirement provides relief to operators who do not have the specified P/Ns installed on their airplanes. Operators who do not have the specified part numbers installed would not be required to do an unnecessary replacement or modification.

The alert service bulletins do not provide a compliance time for the replacement or modification of the cable assembly for the lower anti-collision light. We have determined that a compliance time of within 60 months after the effective date of the AD is appropriate. In developing an appropriate compliance time, we considered the degree of urgency associated with addressing the unsafe condition, the average utilization of the affected fleet, and the time necessary to perform the proposed actions. In light of these factors, we find that a 60-month compliance time for completing the proposed actions is warranted because it allows affected airplanes to continue to operate without compromising safety. The manufacturer concurs with this compliance time.

Costs of Compliance

This proposed AD would affect about 974 airplanes worldwide, and 650 airplanes of U.S. registry. The following table provides the estimated costs for U.S. operators to comply with this proposed AD.

Estimated Costs
Action | Work hours | Average labor rate per hour | Parts | Cost per airplane | Number of U.S.-registered airplanes | Fleet cost
Inspection/Records Review | 1 | $65 | None | $65 | 650 | $42,250

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19202; Directorate Identifier 2004-NM-95-AD.

Comments Due Date

(a) The Federal Aviation Administration (FAA) must receive comments on this AD action by November 15, 2004.

Affected ADs

(b) None.

Applicability: (c) This AD applies to Boeing Model 757-200, -200PF, and -200CB series airplanes listed in Boeing Alert Service Bulletin 757-33A0048, dated March 28, 2002; and Boeing Model 757-300 series airplanes listed in Boeing Alert Service Bulletin 757-33A0049, dated March 28, 2002; certificated in any category.

Unsafe Condition

(d) This AD was prompted by a report of damage caused by an electrical arc in a connector on the cable assembly for the lower anti-collision light. We are issuing this AD to prevent an electrical arc in the cable assembly for the lower anti-collision light, which could result in a fire in a flammable leakage zone of the airplane.

Compliance: (e) You are responsible for having the actions required by this AD performed within the compliance times specified, unless the actions have already been done.

Identification of Cable Assembly Part Number (P/N)

(f) Within 60 months after the effective date of this AD: Do an inspection or a review of airplane maintenance records to identify the P/N of the cable assembly for the lower anti-collision light. If Boeing P/N S283T012-15 or Grimes P/N 60-3414-9 is identified, or if the part number of the cable assembly cannot be positively identified, do the related investigative and corrective actions required by paragraph (g) of this AD.

Related Investigative and Corrective Actions

(g) Within 60 months after the effective date of this AD: Replace the cable assembly for the lower anti-collision light with a new, improved cable assembly, or modify the existing cable assembly; and do the related investigative actions; in accordance with the Accomplishment Instructions of Boeing Alert Service Bulletin 757-33A0048 (for Model 757-200, 200CB, and 200PF series airplanes); or 757-33A0049 (for Model 757-300 series airplanes); both dated March 28, 2002; as applicable.

Parts Installation

(h) As of the effective date of this AD, no person can install a cable assembly, Boeing P/N S283T012-15 or Grimes P/N 60-3414-9, in a flammable leakage zone on any airplane.

Alternative Methods of Compliance (AMOCs)

(i) The Manager, Seattle Aircraft Certification Office, FAA, has the authority to approve AMOCs for this AD, if requested in accordance with the procedures found in 14 CFR 39.19.

Issued in Renton, Washington, on September 21, 2004.
Kalene C. Yanamura,
Acting Manager, Transport Airplane Directorate, Aircraft Certification Service.

[FR Doc. 04-21819 Filed 9-28-04; 8:45 am]

BILLING CODE 4910-13-P